DEPARTMENT OF COMMERCE

National Oceanic and Atmospheric Administration

[RTID 0648-XC409]

Marine Mammals; File No. 26593

AGENCY: National Marine Fisheries Service (NMFS), National Oceanic and Atmospheric Administration (NOAA), Commerce.

ACTION: Notice; receipt of application.

SUMMARY: Notice is hereby given that Adam Pack, Ph.D., University of Hawaii at Hilo, 200 West Kawili Street, Hilo, HI 96720, has applied in due form for a permit to conduct research on humpback whales (Megaptera novaeangliae) and other cetaceans.

DATES: Written, telefaxed, or email comments must be received on or before October 31, 2022.

ADDRESSES: The application and related documents are available for review by selecting “Records Open for Public Comment” from the “Features” box on the Applications and Permits for Protected Species (APPS) home page, https://apps.nmfs.noaa.gov, and then selecting File No. 26593 from the list of available applications. These documents are also available upon written request via email to NMFS.Pr1Comments@noaa.gov.

Written comments on this application should be submitted via email to NMFS.Pr1Comments@noaa.gov. Please include File No. 26593 in the subject line of the email comment.

Those individuals requesting a public hearing should submit a written request via email to NMFS.Pr1Comments@noaa.gov. The request should set forth the specific reasons why a hearing on this application would be appropriate.

FOR FURTHER INFORMATION CONTACT: Carrie Hubard or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to study 29 cetacean species in Hawaiian and Alaskan waters, with a focus on humpback whales. The purpose of the research is to examine the behavioral ecology, biology and communication systems of humpback whales as well as the abundance, distribution, behavior, and physiological stress levels of all cetacean species in the study area. Research would be conducted from boats, airplanes, unmanned aircraft systems, and underwater. Animals would be studied using photo-ID, videogrammetry, passive acoustic recordings, behavioral observations, collection of fecal and skin samples, and biopsy sampling. In addition, up to 150 video and acoustic recording suction cup tags would be deployed on humpback whales, annually. Threatened and endangered species that would be studied if encountered are: blue (Balaenoptera musculus), bowhead (Balaena mysticetus), false killer (Pseudorca crassidens) (Main Hawaiian Islands Insular distinct population segment (DPS)), fin (B. physalus), humpback (Central America and Mexico DPSs), North Pacific right (Eubalaena japonica), sei (B. borealis), and sperm whales (Physeter macrocephalus). The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 26, 2022.
Julia M. Harrison,
Chief, Permits and Conservation Division, Office of Protected Resources, National Marine Fisheries Service.

[FR Doc. 2022-21134 Filed 9-28-22; 8:45 am]

BILLING CODE 3510-22-P